FEDERAL ELECTION COMMISSION

Sunshine Act Notices; Special Executive Session, Wednesday, May 23, 2007, at 10:30 a.m. This Meeting was Closed to the Public Pursuant To 11 CFR 2.4(b)(1) and 2.4(b)(2)

Date & Time: Wednesday, May 30, 2007 at 10 a.m.

Place: 999 E Street, NW., Washington, DC

Status: This meeting will be closed to the public.

Items to be Discussed: Compliance matters pursuant to 2 U.S.C. 437g. Audits conducted pursuant to 2 U.S.C. 437g, 438(b), and Title 26, U.S.C. Maters concerning participation in civil actions or proceedings or arbitration. Internal personnel rules and procedures or matters affecting a particular employee.

Date & Time: Thursday, May 31, 2007 at 10 a.m.

Place: 999 E Street, NW., Washington, DC (Ninth floor).

Status: This meeting will be open to the public.

Items to be Discussed: Correction and Approval of Minutes.

Advisory Opinion 2007-07: Craig for Congress by counsel, Neil P. Reiff.

Statement of Policy Regarding Treasurer's Best Efforts to Obtain, Maintain, and Submit Information as Required by the Federal Election Campaign Act.

Notice of Proposed Rulemaking for Federal Election Activity and Non-Federal Elections.

Gephardt for President Committee Final Audit Report.

Kerry/Edwards 2004 Final Audit Report.

FY 2007 Re-allocation of Funds.

Final Draft of the Campaign Guide for Political Party Committees.

Management and Administrative Matters.

Person to Contact For Information: Mr. Robert Biersak, Press Officer, Telephone: (202) 694-1220.

Mary W. Dove,
Secretary of the Commission.

[FR Doc. 07-2633 Filed 5-23-05; 10:29 am]

BILLING CODE 6715-07-M